DEPARTMENT OF STATE

[Public Notice 4697]

Determination Pursuant to Section 212(a)(3)(B)(vi)(II) of the Immigration and Nationality Act, as Amended, Placing Entities on the Terrorist Exclusion List (TEL)

Acting under the authority of section 212(a)(3)(B)(vi)(II) of the Immigration and Nationality Act, as amended (INA), 8 U.S.C. 1182(a)(3)(B)(v1)(II), and in consultation with the Attorney General and the Secretary of Homeland Security, I hereby determine that each of the following entities is a “terrorist organization” within the meaning of that section of the INA:

Babbar Khalsa International;

Communist Party of Nepal (Maoist)

(a.k.a. CPN(M), a.k.a. the United Revolutionary People's Council, a.k.a. the People's Liberation Army of Nepal);

Dhamat Houmet Daawa Salafia

(a.k.a. Group Protectors of Salafist Preaching; a.k.a. Houmat Ed Daawa Es Salifiya; a.k.a. Katibat El Ahoual; a.k.a. Protectors of the Salafist Predication; a.k.a. El-Ahoual Battalion; a.k.a. Katibat El Ahouel; a.k.a. Houmate Ed-Daawa Es-Salafia; a.k.a. the Horror Squadron; a.k.a. Djamaat Houmat Eddawa Essalafia; a.k.a. Djamaatt Houmat Ed Daawa Es Salafiya; a.k.a. Salafist Call Protectors; a.k.a. Djamaat Houmat Ed Daawa Es Salafiya; a.k.a. Houmate el Da'awaa es-Salafiyya; a.k.a. Protectors of the Salafist Call; a.k.a. Houmat ed-Daaoua es-Salafia; a.k.a. Group of Supporters of the Salafiste Trend; a.k.a. Group of Supporters of the Salafist Trend);

Eastern Turkistan Islamic Movement

(a.k.a. Eastern Turkistan Islamic Party, a.k.a. ETIM, a.k.a. ETIP);

International Sikh Youth Federation;

Moroccan Islamic Combatant Group

(a.k.a. GICM; a.k.a. Groupe Islamique Combattant Marocain);

The Islamic International Brigade

(a.k.a. International Battalion, a.k.a. Islamic Peacekeeping International Brigade, a.k.a. Peacekeeping Battalion, a.k.a. The International Brigade, a.k.a. The Islamic Peacekeeping Army, a.k.a. The Islamic Peacekeeping Brigade);

The Riyadus-Salikhin Reconnaissance and Sabotage Battalion of Chechen Martyrs

(a.k.a. Riyadus-Salikhin Reconnaissance and Sabotage Battalion, a.k.a. Riyadh-as-Saliheen, a.k.a. the Sabotage and Military Surveillance Group of the Riyadh al-Salihin Martyrs, a.k.a. Riyadus-Salikhin Reconnaissance and Sabotage Battalion of Shahids (Martyrs));

The Special Purpose Islamic Regiment

(a.k.a. the Islamic Special Purpose Regiment, a.k.a. the al-Jihad-Fisi-Sabililah Special Islamic Regiment, a.k.a. Islamic Regiment of Special Meaning);

Tunisian Combat Group

(a.k.a. GCT, a.k.a. Groupe Combattant Tunisien, a.k.a. Jama'a Combattante Tunisien, a.k.a. JCT; a.k.a. Tunisian Combatant Group).

Acting under the authority of section 212(a)(3)(B)(vi)(II) of the INA, and in consultation with the Attorney General and the Secretary of Homeland Security, I hereby determine that the following names have been used by two organizations that are already on the Terrorist Exclusion List, and amend the designations of those organizations under that section to add the following names as aliases:

—Wafa Humanitarian Organization, Al Wafa, Al Wafa Organization (as aliases for Al-Wafa al-Igatha al-Islamia).

—Waldenberg, AG (as an alias for Al Taqwa Trade, Property, and Industry Company, Ltd.).

This notice shall be published in the Federal Register, and is effective upon publication.

Dated: April 22, 2004.
Colin L. Powell,
Secretary of State, Department of State.

[FR Doc. 04-9725 Filed 4-28-04; 8:45 am]

BILLING CODE 4710-10-P